OFFICE OF THE UNITED STATES TRADE REPRESENTATIVE

[Docket No. WTO/DS-250]

WTO Dispute Settlement Proceeding Regarding United States—Equalizing Excise Tax Imposed by Florida on Processed Orange and Grapefruit Products

AGENCY: Office of the United States Trade Representative.

ACTION: Notice; request for comments.

SUMMARY: The Office of the United States Trade Representative (“USTR”) is providing notice of the request by the Government of the Federative Republic of Brazil for the establishment of a dispute settlement panel under the Marrakesh Agreement Establishing the World Trade Organization (“WTO Agreement”) to examine the equalizing excise tax imposed by Florida on processed orange and processed grapefruit products pursuant to Section 601.155 of the Florida Statutes. Brazil alleges that Florida's equalizing excise tax is inconsistent with the obligations of the United States under the General Agreement on Tariffs and Trade 1994 (“GATT 1994”). USTR invites written comment from the public concerning the issues raised in this dispute.

DATES: Although USTR will accept any comments received during the course of the dispute settlement proceedings, comments should be submitted on or before July 1, 2003 to be assured of timely consideration by USTR.

ADDRESSES: Comments should be submitted (i) electronically, to FR0077@ustr.gov, with “DS250” in the subject line, or (ii) by mail, to Sandy McKinzy, Monitoring and Enforcement Unit, Office of the General Counsel, Room 122, Office of the United States Trade Representative, 600 17th Street, NW., Washington, DC 20508, Attn: DS250 Dispute, with a confirmation copy sent electronically to the e-mail address above or by fax to (202) 395-3640.

FOR FURTHER INFORMATION CONTACT: Stanford K. McCoy, Assistant General Counsel, Office of the United States Trade Representative, 600 17th Street, NW., Washington, DC 20508, (202) 395-3581.

SUPPLEMENTARY INFORMATION: Pursuant to section 127(b) of the Uruguay Round Agreements Act (“URAA”) (19 U.S.C. 3537(b)(1)), USTR is providing notice that, on August 19, 2002, the United States received a request from the Government of the Federative Republic of Brazil for the establishment of a WTO dispute settlement panel to examine the equalizing excise tax imposed by Florida on processed orange and processed grapefruit products pursuant to Section 601.155 of the Florida Statutes. The panel was established on October 1, 2002. Chile, the European Communities (“EC”), Mexico, and Paraguay have notified the WTO of their intention to participate as third parties.

Major Issues Raised and Legal Basis of the Complaint

Brazil alleges that the equalizing excise tax imposed by the State of Florida pursuant to Section 601.155 of the Florida Statutes, as amended effective July 1, 2002, is inconsistent with certain obligations of the United States under GATT 1994. Brazil asserts that Section 601.155 levies an excise tax on the privilege of processing, reprocessing, blending, or mixing processed orange products or processed grapefruit products into retail or instituted size containers in Florida. Products on which an equivalent tax is levied pursuant to § 601.15 of the Florida Statutes are exempt from the tax imposed by § 601.155. Brazil asserts that the Florida equalizing excise tax is inconsistent with United States obligations under Articles III:1, III:2 and III:4 of GATT 1994.

Specifically, Brazil alleges, inter alia, that the equalizing excise tax (a) is applied to the Brazilian product so as to afford production; (b) exceeds internal taxes and charges applied to like domestic products; and (c) accords Brazilian products treatment less favorable than that accorded to like products of U.S. origin, particularly in regard to the use of the proceeds of the equalizing excise tax for advertising and promotion of Florida citrus and citrus products.

Public Comment: Requirements for Submissions

Interested persons are invited to submit written comments concerning the issues raised in the dispute. Persons submitting comments may either send one copy by U.S. mail, first class, postage prepaid, to Sandy McKinzy at the address listed above or transmit a copy electronically to FR007@ustr.gov, with “DS250” in the subject line. For documents sent by U.S. mail, the submitter should provide a confirmation copy, either electronically or by fax to (202) 395-3640.

USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

A person requesting that information contained in a comment submitted by that person be treated as confidential business information must certify that such information is business confidential and would not customarily be released to the public by the submitter. Confidential business information must be clearly marked “BUSINESS CONFIDENTIAL” at the top and bottom of the cover page and each succeeding page of the submission.

Information or advice contained in a comment submitted, other than business confidential information, may be determined by USTR to be confidential in accordance with section 135(b)(2) of the Trade Act of 1974 (19 U.S.C. 2155(g)(2)). If the submitting person believes that information or advice may qualify as such, the submitting person—

(1) Must so designate the information or advice;

(2) Must clearly mark the material as “SUBMITTED IN CONFIDENCE” at the top and bottom of the cover page and each succeeding page of the submission; and

(3) Is encouraged to provide a non-confidential summary of the information or advice.

Pursuant to section 127(e) of the URAA (19 U.S.C. 3537(e)), USTR will maintain a file on this dispute settlement proceeding, accessible to the public, in the USTR Reading Room, which is located at 1724 F Street, NW., Washington, DC 20508. The public file will include non-confidential comments received by USTR from the public with respect to the dispute; the U.S. submissions to the panel in the dispute, the submissions, or non-confidential summaries of submissions, to the panel received from other participants in the dispute, as well as the report of the panel; and, if applicable, the report of the Appellate Body. An appointment to review the public file may be made by calling the USTR Reading Room at (202) 395-6186. The USTR Reading Room is open to the public from 9:30 a.m. to 12 noon and 1 p.m. to 4 p.m., Monday through Friday.

Daniel E. Brinza,
Assistant United States Trade Representative for Monitoring and Enforcement.

[FR Doc. 03-12037 Filed 5-13-03; 8:45 am]

BILLING CODE 3190-01-M